DEPARTMENT OF COMMERCE

National Oceanic and Atmospheric Administration

[I.D. 010307C]

Atlantic Highly Migratory Species (HMS); Pelagic and Bottom Longline Fisheries

AGENCY: National Marine Fisheries Service (NMFS), National Oceanic and Atmospheric Administration (NOAA), Commerce.

ACTION: Notice of availability.

SUMMARY: NMFS announces the availability of a revised list of equipment models that NMFS has approved as meeting the minimum design specifications for the careful release of sea turtles caught in hook and line fisheries. The revised list is available at http://www.nmfs.noaa.gov/sfa/hms/Protected%20Resources/Required_Gear.pdf. The list is not a list of required gears, but is a list of NMFS approved models of equipment that may be used as options to meet the requirements for gear that must be carried on board vessels participating in the Atlantic pelagic and bottom longline fisheries. Equipment may also be fabricated and used by individuals according to the minimum design specifications. The benefit of using these gears is to maximize safe and efficient gear removal from incidentally captured sea turtles thereby minimizing the potential for serious injury or mortality.

ADDRESSES: For copies of the list of NMFS approved equipment models for the careful release of sea turtles caught in hook and line fisheries, the Final Supplemental Environmental Impact Statement (FSEIS) (issued by NMFS in June 2004) that provides for the approval of new or additional equipment for careful release of sea turtles caught in hook and line fisheries and the Final Environmental Impact Statement that the FSEIS supplements (issued by NMFS in April 1999), contact Margo Schulze-Haugen, Chief, Highly Migratory Species Management Division, 1315 East-West Highway, Silver Spring, MD 20910 or at (301) 713-1917 (fax). These documents are also available at http://www.nmfs.noaa.gov/sfa/hms/.

FOR FURTHER INFORMATION CONTACT: Randy Blankinship, Greg Fairclough, Richard A. Pearson or Russell Dunn at 727-570-5447 or 727-570-5656 (fax).

SUPPLEMENTARY INFORMATION: The Atlantic tuna and swordfish fisheries are managed under the authority of the Magnuson-Stevens Act and the Atlantic Tunas Convention Act (ATCA). Atlantic sharks are managed under the authority of the Magnuson-Stevens Act. The Consolidated Atlantic Highly Migratory Species Fishery Management Plan, finalized in 2006, is implemented by regulations at 50 CFR part 635. The Atlantic pelagic and bottom longline fisheries are also subject to the requirements of the Endangered Species Act (ESA) and the Marine Mammal Protection Act (MMPA).

NMFS announces the availability of a revised list of equipment models that NMFS has approved as meeting the minimum design specifications for the careful release of sea turtles caught in hook and line fisheries. The revised list is available at http://www.nmfs.noaa.gov/sfa/hms/Protected%20Resources/Required_Gear.pdf. To see the previous list of NMFS approved models for the careful release of sea turtles caught in hook and line fisheries, see 69 FR 40734, July 6, 2004. Revision of the list is necessary due to NMFS approval of the following additional sea turtle bycatch mitigation gear for use in the pelagic and bottom longline fisheries for Atlantic HMS: (1) Robey dehooker (for external hooks only), (2) NOAA/Bergmann dehooker (with modification) and (3) notch modification of the previously approved Aquatic Release Conservation (ARC) dehooker pigtail curl. Other sea turtle bycatch mitigation gears previously approved remain approved for use in the fishery.

The list is not a list of required gears, but is a list of NMFS approved models of equipment that may be used as options to meet the requirements for gear that must be carried on board vessels participating in the Atlantic pelagic and bottom longline fisheries (50 CFR 635.21(c)(5)(i) and (d)(3)(i)). Equipment may also be fabricated and used by individuals according to the minimum design specifications (50 CFR 635.21(c)(5)(i)). The benefit of using these gears is to maximize safe and efficient gear removal from incidentally captured sea turtles, thereby minimizing the potential for serious injury or mortality.

Authority: 16 U.S.C. 971 et seq.; 16 U.S.C. 1531 et seq.; 16 U.S.C. 1801 et seq.

Dated: February 8, 2007.
Alan D. Risenhoover,
Director, Office of Sustainable Fisheries, National Marine Fisheries Service.

[FR Doc. E7-2686 Filed 2-14-07; 8:45 am]

BILLING CODE 3510-22-S